DEPARTMENT OF HEALTH AND HUMAN SERVICES

National Institutes of Health

National Heart, Lung, and Blood Institute; Notice of Closed Meetings

Pursuant to section 10(d) of the Federal Advisory Committee Act, as amended (5 U.S.C., Appendix 2), notice is hereby given of the following meetings.

The meetings will be closed to the public in accordance with the provisions set forth in sections 552b(c)(4) and 552b(c)(6), Title 5, U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel, Review of P01 Applications.

Date: September 12, 2000.

Time: 11 a.m. to 3:30 p.m.

Agenda: To review and evaluate grant applications.

Place: Chevy Chase Holiday Inn, 5520 Wisconsin Ave., Chevy Chase, MD 20815.

Contact Person: Deborah P. Beebe, PhD, Health Scientist Administrator, Review Branch, DEA, 6701 Rockledge Drive, Suite 7178, Bethesda, MD 20892, 301/435-0270.

Name of Committee: National Heart, Lung, and Blood Institute Special Emphasis Panel, NRSA Institutional Research Training Grants (T32s).

Date: October 4-6, 2000.

Time: 7 p.m. to 5 p.m.

Agenda: To review and evaluate grant applications.

Place: Holiday Inn Chevy Chase, 5520 Wisconsin Avenue, Chevy Chase, MD 20815.

Contact Person: Roy L. White, PhD, Scientific Review Administrator, Review Branch, DEA, Rockledge 2, MSC 7924, 6701 Rockledge Drive, Suite 7196, Bethesda, MD 20892, 301/435/0291.

(Catalogue of Federal domestic Assistance Program Nos. 93.233, National Center for Sleep Disorders Research; 93.837, Heart and Vascular Diseases Research; 93.838, Lund Diseases Research; 93.839, Blood Diseases and Resources Research, National Institutes of Health, HHS)
Dated: August 9, 2000.
LaVerne Y. Stringfield,
Director, Office of Federal Advisory Committee Policy.

[FR Doc. 00-20926 Filed 8-16-00; 8:45 am]

BILLING CODE 4140-01-M